DEPARTMENT OF COMMERCE

National Oceanic and Atmospheric Administration

[RTID 0648-XE263]

Endangered Species; File No. 23096

AGENCY: National Marine Fisheries Service (NMFS), National Oceanic and Atmospheric Administration (NOAA), Commerce.

ACTION: Notice; receipt of application for a permit modification.

SUMMARY: Notice is hereby given that the University of Georgia, Warnell School of Forestry and Natural Resources, 180 E Green Street, Athens, GA 30602 (Nate Nibbelink, Ph.D., Responsible Party) has requested a modification to scientific research Permit No. 23096-01.

DATES: Written comments must be received on or before October 15, 2024.

ADDRESSES: The modification request and related documents are available for review by selecting “Records Open for Public Comment” from the Features box on the Applications and Permits for Protected Species (APPS) home page, https://apps.nmfs.noaa.gov, and then selecting File No. 23096 mod #10 from the list of available applications. These documents are also available upon written request via email to NMFS.Pr1Comments@noaa.gov.

Written comments on this application should be submitted via email to NMFS.Pr1Comments@noaa.gov. Please include File No. 23096 in the subject line of the email comment.

Those individuals requesting a public hearing should submit a written request via email to NMFS.Pr1Comments@noaa.gov. The request should set forth the specific reasons why a hearing on this application would be appropriate.

FOR FURTHER INFORMATION CONTACT: Malcolm Mohead or Erin Markin, Ph.D., (301) 427-8401.

SUPPLEMENTARY INFORMATION: The subject modification to Permit No. 23096-01, issued on November 20, 2023 (88 FR 85880, December 11, 2023), is requested under the authority of the Endangered Species Act of 1973, as amended (16 U.S.C. 1531 et seq.) and the regulations governing the taking, importing, and exporting of endangered and threatened species (50 CFR parts 222-226).

Permit No. 23096-01 authorizes the permit holder to: quantify population dynamics and seasonal habitat of Atlantic and shortnose sturgeon in Georgia and Florida river systems and estuaries [i.e., Savannah (GA), Altamaha (GA), Ogeechee (GA), Satilla (GA), St. Marys (GA, FL), Nassau (FL) and St. Johns River systems (FL)]. Researchers may capture (by gillnet or trammel net), tag (passive integrated transponder, internal acoustic, and dart), anesthetize, genetic fin clip, fin ray clip, measure, weigh, photograph/video, blood sample, mucus sample, and laparoscopically biopsy gonads of juvenile, sub-adult, and adult Atlantic and shortnose sturgeon. Early life stages of each species may be lethally sampled to document occurrence of spawning in systems. Up to two sturgeon of each species may unintentionally die annually in each river system during sampling activities, excluding the Satilla, St Marys, and St. Johns Rivers. The permit holder now requests authorization to: (1) increase the number of juvenile Atlantic sturgeon from 10 to 20 in the Ogeechee River that may be captured by trammel net, anesthetized, internally acoustically tagged, measured, weighed, PIT tagged, Floy tagged, tissue (genetic) sampled, and photographed annually prior to release; (2) increase the number of juvenile Atlantic sturgeon from 80 to 160 in the Ogeechee River that may be captured by trammel net, measured, weighed, PIT tagged, Floy tagged, tissue (genetic sampled), and photographed annually prior to release. A sub-set of 80 of these fish may also have the leading and secondary fin rays, scute tips and epidermal mucus sampled. The permit expires January 31, 2030.

Dated: September 9, 2024.
Amy C. Sloan,
Acting Chief, Permits and Conservation Division. Office of Protected Resources, National Marine Fisheries Service.

[FR Doc. 2024-20747 Filed 9-11-24; 8:45 am]

BILLING CODE 3510-22-P